ENVIRONMENTAL PROTECTION AGENCY

[FRL-7204-2]

Notice of Proposed Administrative Settlement Under Section 122 of the Comprehensive Environmental Response, Compensation and Liability Act, as amended, 42 U.S.C. 9622, Taylor Lumber & Treating Superfund Site

AGENCY: Environmental Protection Agency.

ACTION: Notice; request for public comment.

SUMMARY: In accordance with the Comprehensive Environmental Response, Compensation and Liability Act of 1980 (CERCLA), 42 U.S.C. 9601 et seq., and by order of the United States Bankruptcy Court for the District of Oregon, notice is hereby given of a proposed Settlement Agreement concerning the Taylor Lumber & Treating National Priorities List Superfund Site. The proposed Settlement Agreement would resolve claims of the United States under sections 106 and 107(a) of CERCLA, 42 U.S.C. 9606 and 9607(a), and section 3008(h) of the Resource Conservation and Recovery Act (RCRA), 42 U.S.C. 6928(h), against Taylor Lumber & Treating, Inc. Taylor Lumber & Treating was authorized to enter into this settlement by an order of the United States Bankruptcy Court, District of Oregon, where Taylor Lumber & Treating has filed a Chapter 11 bankruptcy petition.

EPA will receive $500,000 in cash from the proceeds of the sale of the Taylor Lumber treating plant, which will be placed in a special account for use at the Site. EPA may also receive additional payments if the total amount of funds in the bankruptcy estate available for distribution to general unsecured creditors other than EPA is greater than $350,000. EPA will release its liens on Taylor Lumber's real property and will grant covenants not to sue to the company and its bankruptcy estate.

Because of the schedule in the bankruptcy proceeding, the Bankruptcy Court has ordered a fourteen-day period for public comments. For fourteen calendar days following the date of publication of this notice, EPA will accept written comments relating to the proposed Settlement Agreement. EPA's response to any comments received will be available for public inspection at the U.S. Environmental Protection Agency, 1200 Sixth Ave., Seattle, WA 98101.

DATES: Comments must be submitted on or before fourteen days.

ADDRESSES: A copy of the proposed settlement may be obtained from Jennifer Byrne, Assistant Regional Counsel (ORC-158), Office of Regional Counsel, U.S. EPA Region 10, 1200 Sixth Ave., Seattle, WA 98101. Comments should reference “Taylor Lumber & Treating Settlement Agreement” and “Docket No. CERCLA-10-2002-0034” and should be addressed to Jennifer Byrne at the above address.

FOR FURTHER INFORMATION CONTACT: Jennifer Byrne, Assistant Regional Counsel (ORC-158), Office of Regional Counsel, U.S. EPA Region 10, 1200 Sixth Ave., Seattle, WA 98101; phone: (206) 553-0050; fax: (206) 553-0163; e-mail: byrne.jennifer@epa.gov.

Dated: April 23, 2002.
L. John Iani,
Regional Administrator.

[FR Doc. 02-10732 Filed 4-30-02; 8:45 am]

BILLING CODE 6560-50-P